DEPARTMENT OF THE TREASURY

Agency Information Collection Activities; Submission for OMB Review; Comment Request; Multiple FinCEN Information Collection Requests

AGENCY: Departmental Offices, U.S. Department of the Treasury.

ACTION: Notice of Information Collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before November 29, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

1. Title: Transactions of Exempt Persons Regulations, and FinCEN Form 110, Designation of Exempt Persons (DOEP) Report.

OMB Control Number: 1506-0012.

Type of Review: Extension without change of a currently approved collection.

Description: Under 31 U.S.C. 5313, the Secretary is authorized to require financial institutions to report certain currency transactions. Regulations implementing 31 U.S.C. 5313 are found at 31 CFR 1010.310 through 1010.314, 1021.311, and 1021.313. The Money Laundering Suppression Act of 1994 amended the BSA to create certain mandatory exemptions applicable to banks from the requirement for financial institutions to file currency transaction reports (CTRs), and to give the Secretary authority to create additional such exemptions. Regulations implementing this exemption authority, including by requiring the collection of information on FinCEN Form 110, Designation of Exempt Person (DOEP Report), are found at 31 CFR 1020.315.

Form: FinCEN Form 110.

Affected Public: Banks.

Estimated Number of Respondents: 10,062.

Frequency of Response: On occasion.

Estimated Total Number of Annual Responses: 15,105.

Estimated Time per Response: 1 hour.

Estimated Total Annual Burden Hours: 15,105.

2. Title: Anti-Money Laundering Program Requirements for Casinos.

OMB Control Number: 1506-0051.

Type of Review: Extension without change of a currently approved collection.

Description: Pursuant to 31 U.S.C. 5318(h)(1), financial institutions must establish AML/CFT programs to guard against money laundering and the financing of terrorism. Such programs must include, at a minimum: (a) the development of internal policies, procedures, and controls; (b) the designation of a compliance officer; (c) an ongoing employee training program; and (d) an independent audit function to test programs. On March 12, 1993, FinCEN issued regulations, under separate statutory authority codified at 31 U.S.C. 5318(a)(2), requiring casinos to develop and implement written BSA compliance programs. FinCEN subsequently amended those regulations after passage of the USA PATRIOT Act to state that a casino would be “deemed to satisfy the requirements of 31 U.S.C. 5318(h)(1) if it implements and maintains” an AML program, as described in” 31 CFR 1021.210(b).

Form: None.

Affected Public: Casinos.

Estimated Number of Respondents: 1,277.

Frequency of Response: Annually.

Estimated Total Number of Annual Responses: 1,277.

Estimated Time per Response: 100 hours and 10 minutes.

Estimated Total Annual Burden Hours: 127,912.

3. Title: Regulations Requiring Additional Records to be Made and Retained by Dealers in Foreign Exchange (31 CFR 1022.410).

OMB Control Number: 1506-0052.

Type of Review: Extension without change of a currently approved collection.

Description: Pursuant to 31 CFR 1022.410(a), a dealer in foreign exchange must secure and maintain a record of the taxpayer identification number of certain persons for whom a transaction account is opened or a line of credit is extended. The taxpayer identification number must be obtained and recorded within 30 days of the date the account is opened or credit line extended, or longer if the person opening the account or seeking the line of credit needs to apply for a taxpayer identification or social security number. For non-resident aliens, a dealer in foreign exchange is required to record the person's passport number or a description of some other government document used to verify his or her identity. Pursuant to 31 CFR 1022.410(b), a dealer in foreign exchange must also retain the original or a copy of nine types of documents as further detailed in the supporting statement.

Form: None.

Affected Public: Dealers in Foreign Exchange.

Estimated Number of Respondents: 3,623.

Frequency of Response: On occasion.

Estimated Total Number of Annual Responses: 3,623.

Estimated Time per Response: 16 hours.

Estimated Total Annual Burden Hours: 57,968 hours.

4. Title: Regulations Requiring Additional Records to be Made and Retained by Brokers or Dealers in Securities (31 CFR 1023.410).

OMB Control Number: 1506-0053.

Type of Review: Extension without change of a currently approved collection.

Description: Pursuant 31 CFR 1023.410(a), a broker or dealer in securities is required to secure and maintain a record of certain identifying information for persons who have opened brokerage accounts during the period from June 30, 1972 to October 1, 2003. The customer identification program (CIP) requirement for brokers or dealers in securities has effectively superseded that requirement, and CIP requirements are not considered in connection with this OMB control number renewal.

Pursuant to 31 CFR 1023.410(b), a broker or dealer in securities must retain an original or copy of: (1) each document granting signature or trading authority over each customer's account; (2) a record of each remittance or transfer of funds, or of currency, checks, other monetary instruments, investment securities, or credit, of more than $10,000 to a person, account, or place outside the United States; (3) a record of each receipt of currency, other monetary instruments, investment securities, or checks, and of each transfer of funds or credit, of more than $10,000 on any one occasion, not through a domestic financial institution, from any person, account, or place outside the United States; and (4) each record described in 17 CFR 240.17a-3(a)(1) through (3) and (5) through (9). To the extent that these records include originals or copies of checks, drafts, monetary instruments, investment securities, or other similar instruments, copies of front and back of such instruments must generally be retained. If no record is made in the ordinary course of business of any transaction with respect to which records are required to be retained, then such a record shall be prepared in writing. Records must be maintained for five years.

Form: None.

Affected Public: Brokers or Dealers in Securities.

Estimated Number of Respondents: 3,478.

Frequency of Response: On occasion.

Estimated Total Number of Annual Responses: 3,478.

Estimated Time per Response: 100 hours.

Estimated Total Annual Burden Hours: 347,800.

5. Title: Records to be made and retained by financial institutions (31 CFR 1010.410 and 31 CFR 1022.420).

OMB Control Number: 1506-0058.

Type of Review: Extension without change of a currently approved collection.

Description: Each financial institution must retain an original or copy of records related to extensions of credit in excess of $10,000 (other than those secured by real property), and records related to transfers of funds, currency, other monetary instruments, checks, investment securities, or credit of more than $10,000 to or from the United States (31 CFR 1010.410(a) through (d)). Banks and non-bank financial institutions must also maintain records related to, and include certain information as part of, funds transfers or transmittals of funds involving more than $3,000 (31 CFR 1010.410(e) and (f)).

In addition, under 31 CFR 1022.420, each provider or seller of prepaid access is required to maintain access to transactional records generated in the ordinary course of business that would be needed to reconstruct prepaid access activation, loads, reloads, purchases, withdrawals, transfers, or other prepaid-related transactions.

Form: None.

Affected Public: Financial Institutions.

Estimated Number of Respondents: 273,832.

Frequency of Response: On occasion.

Estimated Total Number of Annual Responses: 320,352.

Estimated Time per Response: Varies from 5 to 50 hours depending on requirement and type of institution.

Estimated Total Annual Burden Hours: 4,015,839.

6. Title: Additional Records to be Made and Retained by Banks (31 CFR 1020.410).

OMB Control Number: 1506-0059.

Type of Review: Extension without change of a currently approved collection.

Description: A bank must retain an original or copy of certain records, as specified in section 31 CFR 1020.410.

Form: None.

Affected Public: Banks.

Estimated Number of Respondents: 10,062.

Frequency of Response: On occasion.

Estimated Total Number of Annual Responses: 10,062.

Estimated Time per Response: 100 hours.

Estimated Total Annual Burden Hours: 1,006,200.

(Authority: 44 U.S.C. 3501 et seq.)

Spencer W. Clark,
Treasury PRA Clearance Officer.

[FR Doc. 2024-25231 Filed 10-29-24; 8:45 am]

BILLING CODE 4810-02-P